DEPARTMENT OF AGRICULTURE

Natural Resources Conservation Service

Meadow Branch Watershed; Robeson County, NC

AGENCY: Natural Resources Conservation Service, USDA.

ACTION: Notice a finding of no significant impact.

SUMMARY: Pursuant to section 102(2)(C)(C) of the National Environmental Policy Act of 1969; the Council on Environmental Quality Guidelines (7 CFR part 650); the Natural Resources Conservation Service, U.S. Department of Agriculture, gives notice that an environmental impact statement is not being prepared for the Meadow Branch Watershed, Robeson County, North Carolina.

FOR FURTHER INFORMATION CONTACT: Mary T. Kollstedt, State Conservationist, Natural Resources Conservation Service, 4405 Bland Road, Suite 205, Raleigh, North Carolina 27609, telephone (919) 873-2101.

SUPPLEMENTARY INFORMATION: The environmental assessment of this federally assisted action indicates that the project will not cause significant local, regional, or national impacts on the environment. As a result of these findings, Mary Kollstedt, State Conservationist, has determined that the preparation and review of an environmental impact statement are not needed for this project.

Structural measures include 41,600 linear feet of channel excavation; 10,300 linear feet of channel clearing and snagging; 2,400 linear feet of channel maintenance/restoration; and 15 water control structures. This will reduce flood damages on 1,500 acres of cropland, for 10 limited resource farmers, and 140 homes. Water management will be provided for 611 acres of cropland.

The Notice of a Finding of No Significant Impact (FONSI) has been forwarded to the Environmental Protection Agency and to various federal, state, and local agencies and interested parties. A limited number of copies of the FONSI are available to fill single copy requests at the above address. Basic data developed during the environmental assessment are on file and may be reviewed by contacting Jacob Crandall, Acting Assistant State Conservationist for Water Resources at 4405 Bland Road, Suite 205, Raleigh, North Carolina 27609.

No administrative action on implementation of the proposal will be taken until 30 days after the date of this publication in the Federal Register.

Dated: February 7, 2000.
Mary T. Kollstedt,
State Conservationist.

[FR Doc. 00-3843 Filed 2-16-00; 8:45 am]

BILLING CODE 3410-16-M